DEPARTMENT OF HEALTH AND HUMAN SERVICES

Centers for Disease Control and Prevention

Mine Safety and Health Research Advisory Committee (MSHRAC), Health Advisory in the Mining Program (HAMP) Workgroup

AGENCY: Centers for Disease Control and Prevention (CDC), Department of Health and Human Services (HHS).

ACTION: Notice of meeting.

SUMMARY: In accordance with the Federal Advisory Committee Act, the CDC announces the following meeting for the Mine Safety and Health Research Advisory Committee (MSHRAC), Health Advisory in the Mining Program (HAMP) Workgroup. This meeting is open to the public, limited only by the space available. The public is welcome to submit written comments in advance of the meeting to the contact person below. Written comments received in advance of the meeting will be included in the official record of the meeting.

DATES: The meeting will be held on September 5, 2019 from 8 a.m. to 4:15 p.m. PDT; and September 6, 2019 from 8 a.m. to 12 noon PDT.

ADDRESSES: University of Washington, 4225 Roosevelt Way NE #100, Seattle, WA 98105. The meeting will be held in the Roosevelt Building, Room 229.

FOR FURTHER INFORMATION CONTACT: Jeffrey Welsh, HAMP Workgroup Designated Federal Officer, NIOSH, CDC, 315 E Montgomery Avenue, Spokane, Washington 99207, Telephone (412) 386-4040, Email juw5@cdc.gov.

SUPPLEMENTARY INFORMATION: Purpose: This meeting is being held to discuss potential health and exposure topics related to the implementation of CDC/NIOSH's Miner Health Program administered out of the Spokane Mining Research Division (SMRD). The meeting is designed to identify current gaps in miner health research, discuss mechanisms to be established for improving communication and participation in occupational health research, and to consider how the Miner Health Program can be prospectively evaluated.

Matters To Be Considered: The agenda will include brief updates on current miner health (and related exposure) research. The updates will be followed by panel discussions regarding: (1) Mental health and substance abuse, (2) exposures as leading indicators of disease, (3) exemplar worker health programs, (4) heat stress and fitness for duty, (5) health data sources and surveillance strategies, (6) updating health and evaluation needs. Each panel will seek input and discuss the health and safety implications associated with these various topics, and identify gaps for further study. Agenda items are subject to change as priorities dictate.

The Chief Operating Officer, Centers for Disease Control and Prevention, has been delegated the authority to sign Federal Register notices pertaining to announcements of meetings and other committee management activities, for both the Centers for Disease Control and Prevention and the Agency for Toxic Substances and Disease Registry.

Sherri Berger,
Chief Operating Officer, Centers for Disease Control and Prevention.

[FR Doc. 2019-16535 Filed 8-1-19; 8:45 am]

BILLING CODE 4163-18-P